NATIONAL AERONAUTICS AND SPACE ADMINISTRATION

[Notice (03-149)]

Notice of Prospective Patent License

AGENCY: National Aeronautics and Space Administration.

ACTION: Notice of prospective patent license.

SUMMARY: NASA hereby gives notice that Air Systems, Inc., of 821 Juniper Crescent, Chesapeake, Virginia 23320, has applied for a partially exclusive license to practice the inventions described and claimed in U.S. Patent No. 4,829,035 entitled “Reactivation Of A Tin Oxide-Containing Catalyst”; U.S. Patent No. 4,855,274 entitled “Process For Making A Noble Metal On Tin Oxide Catalyst”; U.S. Patent No. 4,912,082 entitled “Catalyst For Carbon Monoxide Oxidation;” U.S. Patent No. 4,991,181 entitled “Catalyst For Carbon Monoxide Oxidation;” U.S. Patent No. 5,585,083 entitled “Catalytic Process For Formaldehyde Oxidation;” U.S. Patent No. 6,132,694 entitled “Catalyst For Oxidation Of Volatile Organic Compounds;” and the invention disclosed in NASA Case No. LAR 15851-1-CU entitled “Process For Coating Substrates With Catalyst Materials,” for which a U.S. Patent Application was filed; all of which are assigned to the United States of America as represented by the Administrator of the National Aeronautics and Space Administration. Written objections to the prospective grant of a license should be sent to NASA Langley Research Center. NASA has not yet made a determination to grant the requested license and may deny the requested license even if no objections are submitted within the comment period.

DATE(S): Responses to this notice must be received by December 15, 2003.

FOR FURTHER INFORMATION CONTACT: Helen M. Galus, Patent Attorney, Mail Stop 212, NASA Langley Research Center, Hampton, VA 23681-2199. Telephone (757) 864-3227; fax (757) 864-9190.

Dated: November 21, 2003.
Robert M. Stephens,
Deputy General Counsel.

[FR Doc. 03-29724 Filed 11-26-03; 8:45 am]

BILLING CODE 7510-01-P